DEPARTMENT OF TRANSPORTATION

Federal Aviation Administration

Notice of Extension of the Public Comment Period for the Draft Supplemental Environmental Assessment for the Proposed Modification to the Four Corner-Post Plan at Las Vegas McCarran International Airport

AGENCY: Federal Aviation Administration (FAA), DOT.

ACTION: Extension of public comment period.

SUMMARY: This notice advises the public that the comment period for the Draft Supplemental Environmental Assessment (DSEA) for the proposed modification to the Four Corner-Post Plan at Las Vegas McCarran International Airport, Las Vegas, Nevada is extended.

DATES: The comment period of the DSEA, ending on December 30, 2005, is extended to January 13, 2006.

SUPPLEMENTARY INFORMATION: On November 22, 2005, the Federal Aviation Administration (FAA) issued a notice of the availability of the DSEA for the Las Vegas McCarran International Airport. The notice, published on December 5, 2005, 70 FR 72497, also announced the schedule for public workshops regarding the DSEA, and advised that the public comment period would close Friday, December 30, 2005. While the public workshops will be held as scheduled on November 12 and 13, 2005, the public comment period on the DSEA is extended.

All written comments are to be submitted to Ms. Sara Hassert, Landrum & Brown, Inc., 8755 W. Higgins Rd., Ste. 850, Chicago, IL 60631, fax: 773-628-2901, E-mail: shassert@landrum-brown.com and the comments must be postmarked and e-mail/fax must be sent by no later than midnight, Friday, January 13, 2006.

FOR FURTHER INFORMATION CONTACT: Ms. Kathryn Higgins, Environmental Specialist, Western Terminal Service Area Office, FAA Western Terminal Operations, 15000 Aviation Blvd., Lawndale, CA 90261, Ph. 310-725-6597, E-mail: kathryn.higgins@faa.gov.

Dated: Issued in Lawndale, California on December 9, 2005.
Anthony DiBernardo,
Manager, Program Operations, Western Terminal Service Area.

[FR Doc. 05-24129 Filed 12-15-05; 8:45 am]

BILLING CODE 4910-13-M